DEPARTMENT OF HEALTH AND HUMAN SERVICES

National Institutes of Health

National Institute of Allergy and Infectious Diseases; Notice of Closed Meetings

Pursuant to section 10(d) of the Federal Advisory Committee Act, as amended, notice is hereby given of the following meetings.

The meetings will be closed to the public in accordance with the provisions set forth in sections 552b(c)(4) and 552b(c)(6), Title 5 U.S.C., as amended. The contract proposals and the discussions could disclose confidential trade secrets or commercial property such as patentable material, and personal information concerning individuals associated with the contract proposals, the disclosure of which would constitute a clearly unwarranted invasion of personal privacy.

Name of Committee: National Institute of Allergy and Infectious Diseases Special Emphasis Panel PHS 2019-1 SBIR Topic 71 and 72: Adjuvant Discovery/Development for Vaccines and for Autoimmune and Allergic Diseases.

Date: January 15-16, 2019.

Time: 10:00 a.m. to 6:00 p.m.

Agenda: To review and evaluate contract proposals.

Place: National Institutes of Health, 5601 Fishers Lane, Rockville, MD 20892 (Telephone Conference Call).

Contact Person: Ann Marie M. Cruz, Ph.D., Program Management & Operations Branch, DEA/SRP Rm. 3E71, National Institutes of Health, NIAID, 5601 Fishers Lane, Rockville, MD 20852, 301-761-3100, mailto:ann-marie.cruz@nih.gov.

Name of Committee: National Institute of Allergy and Infectious Diseases Special Emphasis Panel PHS 2019-1 SBIR Topic 74: Development of POC Assays to Quantify Anti-Tuberculosis Antibiotics in Blood.

Date: January 17-18, 2019.

Time: 10:00 a.m. to 5:00 p.m.

Agenda: To review and evaluate contract proposals.

Place: National Institutes of Health, 5601 Fishers Lane, Rockville, MD 20892 (Telephone Conference Call).

Contact Person: Ann Marie M. Cruz, Ph.D., Scientific Review Officer, Program Management & Operations Branch, DEA/SRP Rm. 3E71, National Institutes of Health, NIAID, 5601 Fishers Lane, Rockville, MD 20852, 301-761-3100, AnnMarie.Cruz@niaid.nih.gov.

Name of Committee: National Institute of Allergy and Infectious Diseases Special Emphasis Panel PHS 2019-1 SBIR Topic 68: Reagents for Immunologic Analysis of Non-mammalian and Underrepresented Mammalian Models.

Date: January 24-25, 2019.

Time: 1:00 p.m. to 5:00 p.m.

Agenda: To review and evaluate contract proposals.

Place: National Institutes of Health, 5601 Fishers Lane, Rockville, MD 20892 (Telephone Conference Call).

Contact Person: Ann Marie M. Cruz, Ph.D., Program Management & Operations Branch, DEA/SRP Rm. 3E71, National Institutes of Health, NIAID, 5601 Fishers Lane, Rockville, MD 20852, 301-761-3100, mailto:ann-marie.cruz@nih.gov.

(Catalogue of Federal Domestic Assistance Program Nos. 93.855, Allergy, Immunology, and Transplantation Research; 93.856, Microbiology and Infectious Diseases Research, National Institutes of Health, HHS)

Dated: December 14, 2018.
Natasha M. Copeland,
Program Analyst, Office of Federal Advisory Committee Policy.

[FR Doc. 2018-28021 Filed 12-26-18; 8:45 am]

BILLING CODE 4140-01-P